SMALL BUSINESS ADMINISTRATION

[Disaster Declaration #15170 and #15171; INDIANA Disaster #IN-00061]

Administrative Declaration of a Disaster for the State of Indiana

AGENCY: U.S. Small Business Administration.

ACTION: Notice.

SUMMARY: This is a notice of an Administrative declaration of a disaster for the State of Indiana dated 06/14/2017.

Incident: Severe Storms and Flooding.

Incident Period: 04/28/2017 through 04/29/2017.

DATES: Effective 06/14/2017.

Physical Loan Application Deadline Date: 08/14/2017.

Economic Injury (EIDL) Loan Application Deadline Date: 03/14/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Dubois

Contiguous Counties:

Indiana, Crawford, Daviess, Martin, Orange, Perry, Pike, Spencer, Warrick

The Interest Rates are:

| Percent
For Physical Damage:
Homeowners with Credit Available Elsewhere | 3.875
Homeowners without Credit Available Elsewhere | 1.938
Businesses with Credit Available Elsewhere | 6.430
Businesses without Credit Available Elsewhere | 3.215
Non-Profit Organizations with Credit Available Elsewhere | 2.500
Non-Profit Organizations without Credit Available Elsewhere | 2.500
For Economic Injury:
Businesses & Small Agricultural Cooperatives without Credit Available Elsewhere | 3.215
Non-Profit Organizations without Credit Available Elsewhere | 2.500

The number assigned to this disaster for physical damage is 15170 B and for economic injury is 15171 0.

The States which received an EIDL Declaration # is INDIANA.

(Catalog of Federal Domestic Assistance Number 59008)

Dated: June 14, 2017.
Linda E. McMahon,
Administrator.

[FR Doc. 2017-12950 Filed 6-20-17; 8:45 am]

BILLING CODE 8025-01-P